DEPARTMENT OF ENERGY

Federal Energy Regulatory Commission

[Docket No. RP04-160-000]

East Tennessee Natural Gas Company; Notice of Tariff Filing

February 10, 2004.

Take notice that on February 6, 2004, East Tennessee Natural Gas Company (East Tennessee) tendered for filing as part of its FERC Gas Tariff, Second Revised Volume No. 1, Fifth Revised Sheet No. 266 and Fifth Revised Sheet No. 270, to be effective March 7, 2004.

East Tennessee states that the purpose of this filing is to modify the pro forma LINKr System Agreement contained in its tariff. In particular, East Tennessee suggest that the filing seeks to modify the list of parties to the agreement and the signature block to reflect the corporate name change from Egan Hub Partners, L.P. to Egan Hub Storage, LLC that became effective on January 1, 2004.

East Tennessee states that copies of its filing have been served on all affected customers and interested state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-299 Filed 2-13-04; 8:45 am]

BILLING CODE 6717-01-P